ENVIRONMENTAL PROTECTION AGENCY

[OPP-34225F; FRL-6800-6]

Diazinon; Receipt of Requests For Amendments, and Cancellations

AGENCY: Environmental Protection Agency (EPA).

ACTION: Notice.

SUMMARY: Several companies that manufacture diazinon (O,O-diethyl O-(2-isopropyl-6-methyl-4-pyrimidinyl) phosphorothioate) pesticide products have asked EPA to cancel or amend the registrations for their end-use products containing diazinon to delete all indoor uses, certain agricultural uses and certain outdoor non-agricultural uses. Pursuant to section 6(f)(1) of the Federal Insecticide, Fungicide, and Rodenticide Act (FIFRA), EPA is announcing the Agency's receipt of these requests. These requests for voluntary termination of the above mentioned uses through registration cancellations or amendments were submitted to EPA in May, June, and August 2001. EPA intends to grant these requests by issuing a cancellation order at the close of the comment period for this announcement unless the Agency receives substantive comments within the comment period that would merit its further review of these requests. Upon the issuance of the cancellation order, any distribution, sale, or use of diazinon products listed in this Notice will only be permitted if such distribution, sale, or use is consistent with the terms of that order.

DATES: Comments on the requested amendments to delete uses and the requested registration cancellations must be submitted to the address provided below and identified by docket control number OPP-34225. Comments must be received on or before October 15, 2001.

ADDRESSES: Comments may be submitted by mail, electronically, or in person. Please follow the detailed instructions for each method as provided in Unit I. of the SUPPLEMENTARY INFORMATION. To ensure proper receipt by EPA, it is imperative that you identify docket control number OPP-34225 in the subject line on the first page of your response.

FOR FURTHER INFORMATION CONTACT: John Hebert, Special Review and Reregistration Division (7508C), Office of Pesticide Programs, Environmental Protection Agency, 1200 Pennsylvania Ave., NW., Washington, DC 20460; telephone number: (703) 308-6249; fax number: (703) 308-7042; e-mail address: hebert.john@epa.gov.

SUPPLEMENTARY INFORMATION: This announcement consists of three parts. The first part contains general information. The second part addresses the registrants' requests for registration cancellations and amendments to delete uses. The third part proposes existing stocks provisions that will be set forth in the cancellation order that the Agency intends to issue at the close of the comment period for this announcement.

General Information

A. Does this Action Apply to Me?

This action is directed to the public in general. You may be potentially affected by this action if you manufacture, sell, distribute, or use diazinon products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet homepage at http://www.epa.gov/. To access this document, on the Home Page select “Laws and Regulations,” “Regulations and Proposed Rules,” and then look up the entry for this document under the Federal Register—Environmental Documents. You can also go directly to the Federal Register listings at http://www.epa.gov/fedrgstr/. To access information about the risk assessment for diazinon, go to the homepage for the Office of Pesticide Programs or go directly to http://www.epa.gov/pesticides/op/diazinon.htm.

2. In person. The Agency has established an official record for this action under docket control number OPP-34225. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-34225 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-34225. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Receipt of Requests to Cancel and Amend Registrations to Delete Uses

A. Background

Certain registrants requested in letters dated May, June, and August 2001, that their diazinon registrations be amended to delete all indoor uses, certain agricultural uses, and any other uses that the registrants do not wish to maintain. The requests also included deletions of outdoor non-agricultural uses from the labeling of certain end-use products so that such products would be labeled for agricultural uses only. Similarly, other diazinon end-use registrants requested voluntary cancellation of their diazinon end-use registrations with indoor use and/or certain outdoor non-agricultural uses, and any other uses that the registrants do not wish to maintain. Pursuant to section 6(f)(1) of the FIFRA, EPA is announcing the Agency's receipt of these requests.

These requested cancellations and amendments are consistent with the requests in December 2000, by the manufacturers of diazinon technical products, and EPA's approval of such requests, to terminate all indoor uses and certain agricultural uses from their diazinon product registrations because of EPA's concern with the potential exposure risk, especially to children. The indoor uses and agricultural uses subject to cancellation are identified in List 1 below:

List 1.—Uses to be Canceled

Indoor uses. Pet collars, or inside any structure or vehicle, vessel, or aircraft or any enclosed area, and/or on any contents therein (except mushroom houses), including, but not limited to food/feed handling establishments, greenhouses, schools, residences, commercial buildings, museums, sports facilities, stores, warehouses, and hospitals.

Agricultural uses. Alfalfa, bananas, Bermuda grass, dried beans, dried peas, celery, red chicory (radicchio), citrus, clover, coffee, cotton, cowpeas, cucumbers, dandelions, forestry, (ground squirrel/rodent burrow dust stations for public health use), kiwi, lespedeza, parsley, parsnips, pastures, peppers, potatoes (Irish and sweet), sheep, sorghum, squash (winter and summer), rangeland, Swiss chard, tobacco, and turnips (roots and tops).

As mentioned above, the requests announced in this Federal Register notice also include registration cancellations and/or amendments to terminate certain uses that the registrants do not wish to maintain. The specific requests are identified in Tables 1 and 2 of this notice.

EPA has begun the process of reviewing the requested amendments which cannot be finalized until the end of the public comment period and provided that no substantial comments need to be addressed. EPA also intends to grant the requested product and use cancellations by issuing a cancellation order at the close of the comment period for this announcement unless the Agency receives substantive comments within the comment period that would merit its further review of these requests.

B. Requests for Voluntary Cancellation of End-Use Products

The registrants and end-use product registrations containing diazinon for which cancellation was requested are identified in the following Table 1.

Table1.—End-Use Product Registration Cancellation Requests
Company | Registration Number | Product Name: Use Deletions
Value Garden Supply, LLC | 70-177 70-249 70-252 192-145 192-165 192-194 192-208 769-569 769-571 769-630 769-750 769-754 769-755 769-768 769-769 769-784 769-791 769-824 769-861 769-862 769-863 769-890 769-891 769-922 769-930 769-956 769-974 5887-104 5887-124 5887-132 | Kill-Ko Diazinon 2E Insect Spray Rigo Diazinon AG500 Insecticide Rigo Diazinon 5% Granules Dexol Diazinon 25% Insect Spray Dexol Diazinon 2% Granules Dexol Ant and Roach Killer Dexol Diazinon Insect Spray Stephenson Chemicals D.P.S. Roach Powder Suregard Diazinon Spray SMCP Special Residual Insect Spray PCE Diazinon-Pyrethrum Residual Spray PCE Diazinon DDVP Residual Spray X-It Formula 120 PCE Diazinon Roach Dust Formulation 050 Di-Azz Ready-to-Use Superior Dy-All PCO Crack and Crevice Pratt Diazinon 25E Insect Spray Pratt Diazinon 5% Granular Lawn Insect Control Pratt Diazinon 2% Granular Lawn Insect Control Agrisect Diazinon 5% Granular Agrisect Brand Insecticide Diazinon 2% Dust for Military Use Science 5% Diazinon Dust Warner Enterprises Ant, Roach, and Spider Spray Pratt 14% Diazinon Diazinon 22.4% Lawn and Garden Water Based Insecticide Black Leaf 5% Diazinon Dust Black Leaf 5% Diazinon Granules Black Leaf 25% Diazinon
Whitmire Micro-Gen | 499-228 499-330 499-422 | PT 265-A Knox Out Microencapsulated Diazinon Research Laboratories, Inc. Whitmire TKO Microencapsulated Diazinon (PT 265) TC 132 (TKO PT 265-Greenhouse)
Prentiss Incorporated | 655-457 655-462 655-465 655-519 655-645 655-799 | Prentox® Diazinon 4E Insecticide Prentox® Diazinon 4S Insecticide Prentox® Diazinon 2D Insecticide Dust Prentox® Liquid Household Spray #1 Prentox® Diazinon Emulsifiable Concentrate Prentox® Diazinon Lawn and Garden Insecticide
Green Light Company | 869-219 | Green Light Diazinon 25
PBI Gordon Corporation | 2217-496 | Gordon's Wasp and Hornet Bomb
Sergeant's Pet Products, Inc. | 2517-24 2517-25 2517-29 2517-30 | Double Duty Plus Flea and Tick Collar with Nutrisorb for Dogs Double Duty Plus Flea and Tick Collar with Nutrisorb for Cats Double Duty Reflecting Flea and Tick Collar for Cats Double Duty Reflecting Flea and Tick Collar
Cerexagri, Inc. | 4581-379 | KNOX OUT® GH
Helena Chemical Company | 5905-441 5905-444 5905-525 | Omni-Diazinon Helena Diazinon 40W Diazinon 4EC
Chemical Packaging Corp. | 7405-2 | Chemi-Cap Roach and Ant Killer
Pursell Industries, Inc. | 8660-46 8660-59 8660-79 8660-89 8660-91 8660-95 8660-103 8660-124 8660-206 8660-233 | VertaGreen Household Insecticide VertaGreen Sod Webworm Spray VertaGreen Diazinon 12.5% Insect Spray VertaGreen Diazinon 500 Insecticide VertaGreen Diazinon Insecticide 25 Emulsifiable Concentrate VertaGreen for Pro Use Diazinon 14G VertaGreen Lawn Food and Insecticide VertaGreen Diazinon AG 500 Insecticide Koos Nature's Best Lawn and Garden Insect Control Vigro 5% Diazinon Granules Lawn and Garden Insect Control
Spectrum Group, Division of United Industries Corp. | 8845-94 8845-124 | Sprectracide Crawling Insect Control Granules Sprectracide Granules Formula 2
Safeguard Chemical Corp. | 8848-4 8848-55 8848-56 8848-57 8848-58 | 5-11 Roach and Bug Killer Black Jack Roach and Ant Killer IV 707 Residual Formula-4 Roach Bomb 707 Landlord's Formula Two 707 Residual Formula #2
Sunniland Corporation | 9404-65 | 25% Diazinon Liquid Concentrate
Chemsico, Division of United Industries Corp. | 9688-92 9688-128 9688-132 | Chemsico Granules Formula 1 Chemsico Diazinon Insect Spray Chemsico Insecticide PD
Agriliance | 9779-212 | Diazinon 4E
The Sherman Williams Co. | 10900-96 | Rescue Ant and Roach
Sungro Chemicals, Inc. | 11474-31 11474-34 11474-72 | Sungro Residual Roach Dope Sunbugger Residual Ant and Roach Aqueous Power Residual Spray
Speer Products Incorporated | 11715-3 11715-16 11715-51 11715-90 11715-124 11715-216 11715-296 | Speer Bug Killer Speer Professional Formulation Diazion Bug Killer Speer Insecticide Diazinon Speer Professional Home Pest Control Better World Multi-Purpose Aqueous Spray Sudbury Diazinon Insect Spray 5% Diazinon Granules Lawn and Garden Insect Control
Louisiana Chemical U.S.A., Incorporated | 11746-32 11746-33 11746-42 | Davis Kill-A-Bug III Davis Kill-A-Bug IV Davis Kill-A-Bug 4E
Drexel Chemical Company | 19713-92 | Drexel D-264 4E
Unicorn Laboratories | 28293-229 28293-240 28293-241 28293-242 28293-243 28293-244 28293-245 28293-246 28293-247 28293-248 28293-249 28293-250 28293-251 | Unicorn Diazinon 4E Unicorn Diazinon Granular Lawn Insect Control Unicorn Diazinon½% EW Insecticide Unicorn Diazinon Home Pest Control Insecticide Unicorn Diazinon Home Pest Control Insecticide II Unicorn Diazinon Home Pest Control Pressurized Insecticide Unicorn Diazinon 1% ME Insecticide Unicorn Diazinon 0.5 RTU Insecticide Unicorn Diazinon 2.0 Insecticide Unicorn Diazinon ½% ME Insecticide Unicorn Diazinon 1% EW Insecticide Unicorn Diazinon 5.0 EW Insecticide Unicorn Diazinon 2D Insecticide Dust
Professional Supply, Inc. | 37915-4 | Professional Brand Pest Control Formula D 4E
Quest Chemical Corp. | 44446-7 44446-44 | CS 101 Roach and Ant Spray Double Trouble Water Base Diazinon Roach and Ant Spray
Celex, Division of United Industries Corp. | 46515-17 | Super K-GRO Fruit and Vegetable Insect Control
Marman USA, Inc. | 48273-24 | Marman Diazinon 48 EC
Alljack, Division of United Industries Corp. | 49585-3 49585-5 | Diazinon Granules Diazinon Soil and Turf
MicroFlo Company | 51036-64 51036-197 | Diazinon 4E Diazinon 4E AG
ProGuard, Inc. | 58866-10 | Master Nurseyman Diazinon-25 Insect Control
PM Resources, Inc. | 67517-18 67517-29 67517-62 | Diazinon Insecticide 25E Diazinon Granules 5% Diazinon Lawn and Garden WBC
Contract Packaging, Inc. | 67572-79 | CP Diazinon Lawn and Garden WB Concentrate

Under section 6(f)(1)(A) of FIFRA, registrants may request, at any time, that EPA cancel any of their pesticide registrations. Section 6(f)(1)(B) of FIFRA requires that EPA provide a 30-day period in which the public may comment before the Agency may act on the request for voluntary cancellation. In addition, section 6(f)(1)(C) of FIFRA requires that EPA provide a 180-day comment period on a request for voluntary termination of any minor agricultural use before granting the request, unless:

i. The registrants request a waiver of the comment period.

ii. The Administrator determines that continued use of the pesticide would pose an unreasonable adverse effect on the environment.

In this case, all of the registrants have requested that EPA waive the 180-day comment period. In light of this request, EPA is granting the request to waive the 180-day comment period and is providing a 30-day public comment period before taking action on the requested cancellations. Because of risk concerns posed by certain uses of diazinon, EPA intends to grant the requested cancellations at the close of the comment period for this announcement unless the Agency receives any substantive comment within the comment period that would merit its further review of these requests.

C. Requests for Voluntary Amendments to Delete Uses From the Registrations of End-Use Products

Pursuant to section 6(f)(1)(A) of FIFRA, the following companies have submitted a request to amend the registrations of their pesticide end-use products containing diazinon to delete certain uses from certain products. The following Table 2 identifies the registrants, the product registrations that they wish to amend, and the uses that they wish to delete through registration amendments. Table 2.

Table 2.—End-Use Product Registration Amendment Requests
Company | Registration Number | Product Name: Use Deletions
The Scotts Company | 239-2479 | Ortho Diazinon Soil and Turf Insect Control: Celery
Prentiss Incorporated | 655-556 655-557 | Diazinon 5G Insecticide: Celery Prentox Diazinon 14G: Beans (lima, pole, snap; succulent varieties only), Celery, Cucumbers, Parsley, Peas (succulent varieties only), Peppers, Potatoes, Squash (summer and winter), Sweet Potatoes, Swiss Chard, and Turnips
Southern Agricultural Insecticides, Incorporated | 829-262 | SA-50 Diazinon AG 500 Insecticide: Cucumbers, Peppers, Potatoes, Squash (summer and winter), Swiss Chard, Lawns, Grasslands Insects, and Nuisance Pests in Outside Areas
The Green Light Company | 869-139 869-231 | Green Light Diazinon 5 Granules: Celery Green Light Diazinon: Almonds
Lebanon Seaboard Corporation | 961-358 | Lebanon Lawn and Garden Insecticide with Diazinon 5G: Celery
Wilbur-Ellis Company | 2935-388 2935-408 | Diazinon 4 Spray: Beans, Cucumbers, Parsley, Parsnips, Peas, Peppers, Potatoes, Squash, Sweet Potatoes, Swiss Chard,Turnips, Grasslands, Ditch Banks, Roadsides, Wasteland, Non-crop Areas, Barrier Strips, Ornamental (not grown outdoor in nurseries), Lawn Pest Control, and Nuisance Pests in Outside Areas Diazinon 14G: Beans, Celery, Cucumbers, Parsley, Peas, Peppers, Potatoes, Squash, Sweet Potatoes, Swiss Chard, and Turnips
Cerexagri Incorporated | 4581-392 | KNOX OUT® NL: Commercial Landscape Uses (ornamentals in landscaped, mulched, or plant bed areas of commercial properties)
Helena Chemical Company | 5905-248 5905-262 5905-474 5905-526 | Diazinon AG500 Insecticide: Beans (lima, snap, and pole; succulent only), Parsley, Parsnips, Peas (succulent only), Peppers, Potatoes (Irish), Squash (summer and winter), Sweet Potatoes, Swiss Chard, Ornamentals (outdoor nurseries only), Lawns, and Nuisance Pests in Outdoor Areas Diazinon 14G: Beans (lima, snap, and pole; succulent only), Parsley, Peas (succulent only), Peppers, Potatoes, Squash (summer and winter), Sweet Potatoes, and Swiss Chard Helena Diazinon 7E Insecticide: Beans (lima, snap, and pole; succulent only), Parsley, Parsnips, Peas (succulent only), Peppers, Potatoes (Irish), Squash (summer and winter), Sweet Potatoes, Swiss Chard, Ornamentals (outdoor nurseries only), Lawns, Grassland Insects, and Nuisance Pests in Outside Areas Diazinon 50 WP Insecticide: Beans (lima, snap, and pole; succulent only), Parsley, Parsnips, Peas (succulent only), Peppers, Potatoes (Irish), Squash (summer and winter), Sweet Potatoes, Swiss Chard, Ornamentals (outdoor nurseries only), Lawns, Livestock Insects, Fly Control in Livestock Structures, Lawns, and Nuisance Pests in Outside Areas
Chemsico, Division of United Industries Corporation | 8845-92 8845-95 | Spectracide Lawn and Garden Insect Control Concentrate: Almonds Spectracide 6,000 Lawn and Garden Insect Control: Celery
The Andersons, Incorporated | 9198-62 | The Andersons Lawn and Garden Insecticide 5% Diazinon: Celery
Lesco | 10404-23 | LESCO Diazinon 5G Granular Insecticide: Celery
Howard Johnson's Enterprises, Incorporated | 32802-5 | All Season Diazinon 5G Insecticide: Celery
PBI Gordon Corporation | 33955-556 33955-557 | Acme Diazinon 25% Emulsifiable Concentrate: Almonds Acme Diazinon 5G Lawn and Garden Insect Control: Celery
Platte Chemical Company | 347047-41 34704-57 34704-230 34704-231 34704-435 34704-493 | Clean Crop Diazinon AG500 Insecticide: Cucumbers, Parsley, Parsnips, Peppers, Potatoes, Squash (summer and winter), Sweet Potatoes, Swiss Chard, Turnips, Grassland Insects, Lawns, and Nusiance Pests in Outside Areas Clean Crop Diazinon 5 Lawn and Garden: Celery Diazinon G-14: Celery, Cucumbers, Parsley, Peppers, Potatoes, Squash (summer and winter), Sweet Potatoes, Swiss Chard, and Turnips Diazinon 500-AG: Cucumbers, Parsley, Parsnips, Peppers, Potatoes, Squash (summer and winter), Sweet Potatoes, Swiss Chard, Turnips, Grassland Insects, Lawn Pest Control, and Nuisance Pests in Outside Areas Clean Crop Diazinon 50WP Insecticide: Cucumbers, Parsley, Parsnips, Peppers, Potatoes, Squash (summer and winter), Sweet Potatoes, Swiss Chard, Turnips, Grassland Insects, Livestock Insects, Fly Control in Livestock Structures, Lawns, and Nusiance Pests in Outside Areas Diazinon 5 Granules: Celery, Collards, Cucumbers, Parsley, Peppers, Potatoes, Squash (summer and winter), Sweet Potatoes, Swiss Chard, Turnips, Lawns, and Band Treatment Around House Foundation
Professional Supply, Incorporated | 37915-6 | Professional Brand Pest Control Formula DC-500: Pole Beans
Enforcer Products, a Division of National Service Industries, Incorporated | 40849-30 | Enforcer Ant Kill Granules II: Pole Beans and Celery
Morgro, Incorporated | 42057-90 42057-107 | Morgro Diazinon 25% Spray: Oranges Morgro 5% Diazinon Granules: Celery
Walla Walla Environmental | 47332-4 | CPF 2D: farm buildings including dairy barns and milk parlors warehouses, office buildings, theaters, schools, motels, hotels, factories, and out buildings
Mircro Flo Company | 51036-97 | Diazinon 5G Homeowner: Celery
Gro Tec, Incorporated | 59144-2 59144-28 | 5% Diazinon Granules: Pole Beans and Celery Diazinon Lawn and Garden Insecticide: Almonds and Pole Beans
Hacco, Incorporated | 61282-25 | Diazinon Lawn and Garden WBC: Almonds
Guardsman Products, Incorporated | 62366-2 | Bug Stuff: Office Buildings, Schools, Hotels, Motels, Warehouses, Theaters, Barns, Farm Buildings (including dairy barns and milk parlors), Factories, and Outbuildings
Contract Packaging, Inc. | 67572-1 | CP Diazinon Lawn and Garden WB Ready-to-Use: Almonds and Pole Beans

Under section 6(f)(1)(A) of FIFRA, registrants may request, at any time, that their pesticide registrations be amended to delete one or more pesticide uses. The aforementioned companies have requested to amend their registrations and have requested that EPA waive the 180-day comment period. In light of this request, EPA is granting the request to waive the 180-day comment period and is providing a 30-day public comment period before taking action on the requested amendments to delete uses. Because of risk concerns posed by certain uses of diazinon, EPA intends to grant the requested amendments to delete uses at the close of the comment period for this announcement, unless the Agency receives any substantive comment within the comment period that would merit its further review of these requests.

III. Proposed Existing Stocks Provisions

EPA received requests for voluntary cancellation of the diazinon registrations identified in Tables 1 and requests for amendments to terminate certain uses of the diazinon registrations identified in Table 2. Pursuant to section 6(f) of FIFRA, EPA intends to grant these requests by issuing a cancellation order at the end of the 30-day comment period unless the Agency receives any substantive comment within the comment period that would merit its further review of these requests. In the event that EPA issues a cancellation order, EPA intends to include in that order the existing stocks provisions set forth in this section. For purposes of that cancellation order, the term “existing stocks” will be defined, pursuant to EPA's existing stocks policy at 56 FR 29362, June 26, 1991, as those stocks of a registered pesticide product which are currently in the United States and which have been packaged, labeled, and released for shipment prior to the effective date of the cancellation or amendment. Any distribution, sale, or use of existing stocks after the effective date of the cancellation order that the Agency intends to issue that is not consistent with the terms of that order will be considered a violation of section 12(a)(2)(K) and/or 12(a)(1)(A) of FIFRA.

EPA intends that the cancellation order includes the following existing stocks provisions:

1. Distribution or sale of products bearing instructions for use on agricultural crops. The distribution or sale of existing stocks by the registrant of any product listed in Table 1 or 2 that bears instructions for use on the agricultural crops identified in List 1 will not be lawful under FIFRA 1 year after the effective date of the cancellation order. Persons other than the registrant may continue to sell or distribute the existing stocks of any product listed in Table 1 or 2 that bears instructions for any of the agricultural uses identified in List 1 after the effective date of the cancellation order. However, it is lawful to ship such stocks for export consistent with the requirements of section 17 of FIFRA, or to properly dispose of the existing stocks in accordance with all applicable law.

2. Distribution or sale of products bearing instructions for use on outdoor non-agricultural sites. The distribution or sale of existing stocks by the registrant of any product listed in Table 1 or 2 that bears instructions for use on outdoor non-agricultural sites will not be lawful under FIFRA 1 year after the effective date of the cancellation order. Persons other than the registrant may continue to sell or distribute the existing stocks of any product listed in Table 1or 2 that bears instructions for use on outdoor non-agricultural sites after the effective date of the cancellation order. However, it is lawful to ship such stocks for export consistent with the requirements of section 17 of FIFRA, or to properly dispose of the existing stocks in accordance with all applicable law.

3. Distribution or sale of products bearing instructions for use on indoor sites. The distribution or sale of existing stocks by the registrant of any product listed in Table 1 or 2 that bears instructions for use at or on any indoor sites (except mushroom houses), shall not be lawful under FIFRA as of the effective date of the cancellation order, except for shipping stocks for export consistent with the requirements of section 17 of FIFRA, or properly disposing of the existing stocks in accordance with all applicable law.

4. Retail and other distribution or sale of existing stock of products for indoor use. The retail sale of existing stocks by any person other than the registrants of products listed in Table 1 or 2 bearing instructions for any indoor uses except mushroom houses will not be lawful under FIFRA after December 31, 2002, except for shipping stocks for export consistent with the requirements of section 17 of FIFRA, or properly disposing of the existing stocks in accordance with all applicable law.

5. Use of existing stocks. EPA intends to permit the use of existing stocks of products listed in Table 1 or 2 until such stocks are exhausted, provided such use is in accordance with the existing labeling of that product.

List of Subjects

Environmental protection, Pesticides and pests.

Dated:August 31, 2001.
Lois A. Rossi,
Director, Special Review and Reregistration Division, Office of Pesticide Programs.

[FR Doc. 01-23005 Filed 9-12-01; 8:45 a.m.]

BILLING CODE 6560-50-S